DEPARTMENT OF HOMELAND SECURITY

Coast Guard

33 CFR Part 165

[Docket Number USCG-2025-0376]

RIN 1625-AA00

Safety Zone; USS Lexington, Corpus Christi, TX

AGENCY: Coast Guard, Department of Homeland Security (DHS).

ACTION: Temporary final rule.

SUMMARY: The Coast Guard is establishing a temporary safety zone for navigable waters off the port side of the USS Lexington in Corpus Christi Bay, while the United States Army conducts jump training. The safety zone is needed to protect personnel, vessels, and the marine environment from potential hazards created by this exercise. Entry of vessels or persons into this zone is prohibited unless specifically authorized by the Captain of the Port, Sector Corpus Christi.

DATES: This rule is effective on June 7, 2025, from 7 a.m. through 11 a.m.

ADDRESSES: To view documents mentioned in this preamble as being available in the docket, go to https://www.regulations.gov, type USCG-2025-0376 in the search box and click “Search.” Next, in the Document Type column, select “Supporting & Related Material.”

FOR FURTHER INFORMATION CONTACT: If you have questions about this rule, call or email Lieutenant Timothy Cardenas, Waterways Management Division, U.S. Coast Guard; (361) 244-4784, email Timothy.J.Cardenas@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impracticable. On April 28, 2025, the United States (U.S.) Army notified the Coast Guard that it would be conducting training on June 7, 2025, involving Army personnel jumping from the deck of the museum vessel USS Lexington into Corpus Christi Bay. This safety zone must be established prior to the exercise to protect United States Army personnel, the public, vessels, and the marine environment from potential hazards created during this training exercise. The Coast Guard therefore lacks sufficient time to provide a reasonable comment period and then a period to consider those comments before issuing the rule.

Also, under 5 U.S.C. 553(d)(3), the Coast Guard finds that good cause exists for making this rule effective less than 30 days after publication in the Federal Register. Delaying the effective date of this rule would be contrary to the public interest because prompt action is needed to respond to potential safety hazards associated with this U.S. Army training exercise.

III. Legal Authority and Need for Rule

The Coast Guard is issuing this rule under authority in 46 U.S.C. 70034. The Captain of the Port Sector Corpus Christi (COTP) has determined that potential hazards associated with a jump training exercise on June 7, 2025, will be a safety concern for participating U.S. Army personnel and for anyone within the safety zone off the port side of the USS Lexington. This rule is needed to protect personnel, vessels, and the marine environment in the navigable waters within the safety zone while the exercise occurs.

IV. Discussion of the Rule

This rule establishes a safety zone from 7 a.m. through 11 a.m. on June 7, 2025. The safety zone will cover all navigable waters within the area encompassed by a line connecting the following points: beginning at Point 1: 27°48′57.76″ N, 97°23′19.17″ W; thence to Point 2: 27°48′50.75″ N, 97°23′16.62″ W; thence to Point 3: 27°48′54.34″ N, 97°23′5.73″ W; thence to Point 4: 27°49′0.15″ N, 97°23′11.33″ W; thence returning to Point 1. No vessel or person will be permitted to enter the temporary safety zone during the period in which the rule is subject to enforcement without obtaining permission from the COTP or a designated representative, who may be contacted on Channel 16 (156.8 MHz) or by telephone at (361) 939-0450. The Coast Guard will issue Broadcast Notices to Mariners and Safety Marine Information Broadcasts to inform the public of these restrictions.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

This regulatory action determination is based on the size, location, and duration of the safety zone. The safety zone covers 1 quarter of a square mile area of the Corpus Christi Bay outside of the navigational channel, and vessels will be able to transit around this area unimpeded. The temporary safety zone will be subject to enforcement for a period of only four hours on June 7, 2025. Vessels may also be allowed to enter the zone during the enforcement period with prior approval of the COTP.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves establishing a temporary safety zone for navigable waters in Corpus Christi Bay lasting approximately four hours on one day. The safety zone is needed to protect personnel, vessels, and the marine environment from potential hazards created during a U.S. Army jump training exercise. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T08-0376 to read as follows:

§ 165.T08-0376 Safety Zones; Corpus Christi Bay, Corpus Christi, TX.

(a) Location. The following area is a safety zone: All waters of Corpus Christi Bay, from surface to bottom, encompassed by a line connecting the following points: Point 1 at 27°48′57.76″ N, 97°23′19.17″ W; thence to Point 2 at 27°48′50.75″ N, 97°23′16.62″ W; thence to Point 3 at 27°48′54.34″ N, 97°23′5.73″ W; thence to Point 4 at 27°49′0.15″ N, 97°23′11.33″ W; thence returning to Point 1. These coordinates are based on World Geodetic System (WGS) 84.

(b) Definitions. As used in this section, designated representative means a Coast Guard Patrol Commander, including a Coast Guard coxswain, petty officer, or other officer operating a Coast Guard vessel and a Federal, State, and local officer designated by or assisting the Captain of the Port Sector Corpus Christi (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative by on Channel 16 VHF-FM (156.8 MHz) or by telephone at (361) 939-0450. Those in the safety zone must comply with all lawful orders or directions given to them by the COTP or the COTP's designated representative.

(d) Enforcement period. This section will be enforced from 7 a.m. through 11 a.m. on June 7, 2025.

Dated: May 19, 2025.
Torrey H. Bertheau,
Captain, U.S. Coast Guard, Captain of the Port Sector Corpus Christi.

[FR Doc. 2025-09677 Filed 5-28-25; 8:45 am]

BILLING CODE 9110-04-P